DEPARTMENT OF TRANSPORTATION

Office of the Secretary

Application of Jet-A, LLC for Certificate Authority

AGENCY: Department of Transportation.

ACTION: Notice of Order to Show Cause (Order 2011-9-8). Docket DOT-OST-2010-0120.

SUMMARY: The Department of Transportation is directing all interested persons to show cause why it should issue an order finding Jet-A, LLC fit, willing, and able to operate interstate charter air transportation of persons, property and mail, using one large aircraft.

DATES: Persons wishing to file objections should do so no later than September 28, 2011.

ADDRESSES: Objections and answers to objections should be filed in Docket DOT-OST-2010-0120 and addressed to U.S. Department of Transportation, Docket Operations, (M-30, Room W12-140), 1200 New Jersey Avenue, SE., West Building Ground Floor, Washington, DC 20590, and should be served upon the parties listed in Attachment A to the order.

FOR FURTHER INFORMATION CONTACT: Catherine J. O'Toole, Air Carrier Fitness Division (X-56, Room W86-489), U.S. Department of Transportation, 1200 New Jersey Avenue, SE., Washington, DC 20590, (202) 366-9721.

Dated: September 14, 2011.
Robert Letteney,
Deputy Assistant Secretary for Aviation and International Affairs.

[FR Doc. 2011-24191 Filed 9-21-11; 8:45 am]

BILLING CODE P